DEPARTMENT OF TRANSPORTATION

Federal Aviation Administration

Notice of Intent To Rule on Request To Release Airport Property at the Monroe Regional Airport, Monroe, Louisiana

AGENCY: Federal Aviation Administration (FAA), DOT.

ACTION: Notice of request to release airport property.

SUMMARY: The FAA proposes to rule and invite public comment on the release of land at the Monroe Regional Airport under the provisions of Section 125 of the Wendell H. Ford Aviation Investment Reform Act for the 21st Century (AIR 21).

DATES: Comments must be received on or before December 9, 2022.

ADDRESSES: Comments on this application may be mailed or delivered to the FAA at the following address: Mr. Justin Barker, Manager, Federal Aviation Administration, Southwest Region, Airports Division, Louisiana/New Mexico Airports Development Office, ASW-640, Fort Worth, Texas 76177.

In addition, one copy of any comments submitted to the FAA must be mailed or delivered to Mr. Charles Butcher, Airport Director, at the following address: 5400 Operations Rd., Monroe, LA 71203.

FOR FURTHER INFORMATION CONTACT: Mr. Jean Gamarra, Program Manager, Federal Aviation Administration, Louisiana/New Mexico Airports Development Office, ASW-640, 10101 Hillwood Parkway, Fort Worth, Texas 76177, Telephone: (817) 222-5522, Email: jean.gamarra@faa.gov, Fax: (817) 222-5989.

SUPPLEMENTARY INFORMATION: The FAA invites public comment on the request to release property at the Monroe Regional Airport under the provisions of the AIR 21.

The following is a brief overview of the request:

The City of Monroe requests the release of 2.46 acres of non-aeronautical airport property. The land was acquired by Deed without Warranty from the United States on September 8th, 1949. The property to be released will be sold for the expansion of the Chenault Aviation and Military Museum. Any person may inspect the request in person at the FAA office listed above under FOR FURTHER INFORMATION CONTACT.

In addition, any person may, upon request, inspect the application, notice and other documents relevant to the application in person at the City of Monroe Legal Department, telephone number (318) 329-2240.

Issued in Fort Worth, Texas, on October 12th, 2022.
Ignacio Flores,
Director, Office of Airports Southwest Region.

[FR Doc. 2022-24392 Filed 11-8-22; 8:45 am]

BILLING CODE 4910-13-P